DEPARTMENT OF COMMERCE

National Oceanic and Atmospheric Administration

RIN 0648-XX07

Atlantic Coastal Fisheries Cooperative Management Act Provisions; General Provisions for Domestic Fisheries; Application for Exempted Fishing Permits (EFP)

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an EFP application contains all of the required information and warrants further consideration. This EFP would allow one commercial fishing vessel to harvest, retain, and bring to port, six egg-bearing, legal-sized, female American lobster (lobster) taken from conventional lobster traps in between Block and Hudson Canyons in Lobster Management Area 3 during the summer of 2010.

The participating vessel will be exempted from the prohibitions relative to the possession, transportation and shipping of egg-bearing lobsters until the six egg-bearing lobsters are obtained for use by the researchers. The lobsters are needed for the purpose of studying lobster larval settlement by comparing settlement behavior of inshore and offshore lobster populations being conducted by Boston University in conjunction with the Woods Hole Oceanographic Institution.

Further review and consultation may be necessary before a final determination is made to issue an EFP. NMFS announces that the Assistant Regional Administrator proposes to issue an EFP and, therefore, invites comments on the issuance of this EFP.

DATES: Comments must be received on or before July 19, 2010.

ADDRESSES: You may submit written comments by any of the following methods:

• Email: NERO.EFP@noaa.gov. Include in the subject line “Comments on BU Lobster Larval Settlement EFP.”

• Mail: Patricia A. Kurkul, Regional Administrator, NMFS, NE Regional Office, 55 Great Republic Drive, Gloucester, MA 01930. Mark the outside of the envelope “Comments on BU Lobster Larval Settlement EFP.”

• Fax: (978) 281-9117.

FOR FURTHER INFORMATION CONTACT: Peter Burns, Fishery Management Specialist, 978-281-9144, peter.burns@noaa.gov.

SUPPLEMENTARY INFORMATION: Boston University, in conjunction with the Woods Hole Oceanographic Institute, submitted a complete application for an EFP on May 28, 2010, to conduct commercial fishing activities that the regulations would otherwise restrict. The EFP would authorize one vessel to harvest, retain, and bring to port, six egg-bearing, legal-sized, female lobsters.

The researchers are studying settlement behavior of larval lobsters. Recent genetic work indicates that lobster populations which are relatively close in proximity (for example, only 30 miles apart), are morphologically and genetically distinct from one another. The researchers believe settlement of the larvae may play a role in maintaining this population structure and have planned experiments to compare settlement behavior of different larval stages between inshore and offshore populations.

The researchers request to obtain six egg-bearing, legal-sized female lobsters from an offshore commercial lobster trap vessel during the summer of 2010. The lobsters will be harvested using standard lobster traps which meet the Atlantic Large Whale Take Reduction Plan gear specifications, and will be harvested from conventional traps set between Block and Hudson Canyons (NMFS Statistical Areas 537, 616, and 613) in Lobster Management Area 3. All six egg-bearing lobsters will likely be obtained over the course of a single lobster trawl comprised of about 20-40 traps set for approximately one week. It is expected that the vessel will be able to obtain all the lobsters needed under this exemption during one multi-day fishing trip during July 2010. The researchers will take possession of the egg-bearing lobsters when the vessel reaches port at the end of the fishing trip during which the lobsters were harvested.

Obtaining the egg-bearing lobster is most effectively done through coordinating with a commercial lobster vessel since lobsters representative of the offshore population are needed to conduct the study. The participating vessel will be exempted from the prohibitions in §§ 697.20(d)(3) and (4) relative to the possession, transportation and shipping of egg-bearing lobsters until the six egg-bearing lobsters are obtained for use by the researchers.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would not be covered by the exemption and would have to otherwise comply with all applicable laws.

Authority: 16 U.S.C. 1801 et seq.

Dated: June 29, 2010.
James P. Burgess
Acting Director, Office of Sustainable Fisheries, National Marine Fisheries Service.

[FR Doc. 2010-16194 Filed 7-1-10; 8:45 am]

BILLING CODE 3510-22-S